DEPARTMENT OF LABOR

Employment and Training Administration

[TA-W-85,867; TA-W-85,867A]

Day & Zimmermann, Inc., Kansas Division, Parsons, Kansas; Day & Zimmermann Lone Star LLC, a Wholly Owned Subsidiary Of Day & Zimmermann Group, Inc., Including On-Site Leased Workers From Manpowergroup East Camden, Arkansas; Amended Certification Regarding Eligibility To Apply for Worker Adjustment Assistance

In accordance with Section 223 of the Trade Act of 1974, as amended (“Act”), 19 U.S.C. 2273, the Department of Labor issued a Certification of Eligibility to Apply for Worker Adjustment Assistance on April 3, 2015, applicable to workers of Day & Zimmermann, Inc., Kansas Division, Parsons, Kansas. The Department's notice of determination was published in the Federal Register on April 27, 2015 (80 FR 23295).

At the request of the Arkansas State Workforce Office, the Department reviewed the certification for workers of the subject firm. The workers are engaged in activities related to the production of mortars, primers, and fuzes for munitions.

New information shows that worker separations have occurred involving employees of Day & Zimmermann Lone Star LLC, a wholly owned subsidiary of Day & Zimmermann Group, Inc., including on-site leased workers from ManpowerGroup, East Camden, Arkansas. The employees support Day & Zimmermann, Inc., Kansas Division, Parsons, Kansas in the production of mortars, primers, and fuzes for munitions.

The intent of the Department's certification is to include all workers of the subject firm who were adversely affected by an increase in customer imports of mortars.

Based on these findings, the Department is amending this certification to include employees of Day & Zimmermann Lone Star LLC, a wholly owned subsidiary of Day & Zimmermann Group, Inc., including on-site leased workers from ManpowerGroup, East Camden, Arkansas (TA-W-85,867A).

The amended notice applicable to TA-W-85,867 is hereby issued as follows:

All workers of Day & Zimmermann, Inc., Kansas Division, Parsons, Kansas (TA-W-85,867) and Day & Zimmermann Lone Star LLC, a wholly owned subsidiary of Day & Zimmermann Group, Inc., including on-site leased workers from ManpowerGroup, East Camden, Arkansas (TA-W-85,867A), who became totally or partially separated from employment on or after March 6, 2014, through April 3, 2017, and all workers in the group threatened with total or partial separation from employment on date of certification through two years from the date of certification, are eligible to apply for adjustment assistance under Chapter 2 of Title II of the Trade Act of 1974, as amended.

Signed in Washington, DC, this 23rd day of May, 2016.
Jessica R. Webster,
Certifying Officer, Office of Trade Adjustment Assistance.

[FR Doc. 2016-16839 Filed 7-15-16; 8:45 am]

BILLING CODE P